DEPARTMENT OF VETERANS AFFAIRS

38 CFR Part 61

RIN 2900-AP54

VA Homeless Providers Grant and Per Diem Program; Correction

AGENCY: Department of Veterans Affairs.

ACTION: Proposed rule; corrections.

SUMMARY: The Department of Veterans Affairs (VA) Affairs is correcting a proposed rule that proposes to amend its regulations concerning the VA Homeless Providers Grant and Per Diem (GPD) Program that was published in the Federal Register on July 25, 2017. These corrections address technical errors in the proposed rule.

DATES: The correction is effective August 2, 2017.

ADDRESSES: Written comments may be submitted through www.regulations.gov; by mail or hand-delivery to the Director, Regulations Management (00REG), Department of Veterans Affairs, 810 Vermont Ave NW., Room 1068, Washington, DC 20420; or by fax to (202) 273-9026. Comments should indicate that they are submitted in response to “RIN 2900-AP54—VA Homeless Providers Grant and Per Diem Program.” Copies of comments received will be available for public inspection in the Office of Regulation Policy and Management, Room 1063B, between the hours of 8:00 a.m. and 4:30 p.m., Monday through Friday (except holidays). Please call (202) 461-4902 for an appointment. (This is not a toll-free number.) In addition, during the comment period, comments may be viewed online through the Federal Docket Management System (FDMS) at http://www.regulations.gov.

FOR FURTHER INFORMATION CONTACT: Guy Liedke, Program Analyst, Grant/Per Diem Program, (673/GPD), VA National Grant and Per Diem Program Office, 10770 N. 46th Street, Suite C-200, Tampa, FL 33617, (877) 332-0334, guy.liedke@va.gov. (This is a toll-free number.)

SUPPLEMENTARY INFORMATION: VA is correcting its proposed rule that proposes to amend its regulations concerning the VA Homeless Providers Grant and Per Diem (GPD) Program.

In FR Doc. 17-15338 appearing on page 34457 in the Federal Register of Tuesday, July 25, 2017, the following corrections are made:

On page 34459, in the first column, in the second full paragraph, add a new first sentence, “VA makes no changes to paragraphs (b) and (c) and merely restates them.” Immediately preceding the sentence, “Proposed paragraphs (d), (f), and (h) restate, without substantive change, material that currently appears at § 61.33(e), (g), and (i).”

§ 61.33 [Corrected]

On page 34463, in the first column, amend § 61.33(2)(A) by removing “(A)” and replacing it with “(i)”, and in § 61.33(2)(B) by removing “(B)” and replacing it with “(ii)”.

On page 34463, in the second column, amend § 61.33(c) by removing “118” and replacing it with “1/8”.

Janet J. Coleman,
Chief, Office of Regulation Policy & Management, Office of the Secretary, Department of Veterans Affairs.

[FR Doc. 2017-16179 Filed 8-1-17; 8:45 am]

BILLING CODE 8320-01-P